DEPARTMENT OF THE INTERIOR

Fish and Wildlife Service

Proposed John W. Starr Memorial Forest, Mississippi State University Red-Cockaded Woodpecker Safe Harbor Agreement, Oktibbeha and Winston Counties, MS

AGENCY: Fish and Wildlife Service, Department of the Interior.

ACTION: Notice.

SUMMARY: Mississippi State University (MSU or Applicant) has applied to the Fish and Wildlife Service (Service) for an enhancement of survival permit (ESP) under section 10(a)(1)(A) of the Endangered Species Act of 1973, as amended (Act). The ESP application includes a proposed Safe Harbor Agreement (Agreement) for the endangered red-cockaded woodpecker (Picoides borealis) (RCW) for a period of 20 years. If approved, the Agreement would allow the Applicant to establish and enhance RCW habitat on the John W. Starr Memorial Forest (JSMF).

We announce the opening of a 30-day comment period and request comments from the public on the Applicant's ESP application, the accompanying proposed Agreement, and the supporting Environmental Action Statement (EAS) Screening Form.

DATES: Written comments should be received on or before October 10, 2006.

ADDRESSES: You may obtain a copy of the information available by contacting the Field Supervisor, Fish and Wildlife Service, Ecological Services Field Office, 6578 Dogwood View Parkway, Suite A, Jackson, Mississippi 39213. Alternatively, you may set up an appointment to view these documents during normal business hours. Written data or comments should be submitted to the Service's Regional Safe Harbor Coordinator, Fish and Wildlife Service, 1875 Century Boulevard, Suite 200, Atlanta, Georgia 30345. Note that requests for any documents must be in writing to be processed. When you are requesting or reviewing the information provided in this notice, please reference “Proposed Mississippi State University Red-cockaded Woodpecker Safe Harbor Agreement” in any correspondence.

FOR FURTHER INFORMATION CONTACT: Ms. Kathy Lunceford, Fish and Wildlife Biologist, Mississippi Ecological Services Field Office (see ADDRESSES), telephone: (601) 321-1132; or Mr. Rick Gooch, Regional Safe Harbor Program Coordinator at the Service's Southeast Regional Office (see ADDRESSES), telephone: (404) 679-7124.

SUPPLEMENTARY INFORMATION: Under a Safe Harbor Agreement, participating property owners voluntarily undertake management activities on their property to enhance, restore, or maintain habitat benefiting species listed under the Act. Safe Harbor Agreements encourage private and other non-Federal property owners to implement conservation efforts for listed species by assuring property owners that they will not be subjected to increased property use restrictions if their efforts attract listed species to their property or increase the numbers or distributions of listed species already on their property. Application requirements and issuance criteria for ESPs through Safe Harbor Agreements are found in 50 CFR 17.22 and 17.32.

MSU's proposed Agreement is designed to allow for management activities for the RCW on the JSMF and to provide regulatory assurance to MSU by relieving it from any additional responsibility under the Act beyond that which exists at the time it enters into the program, i.e., the Safe Harbor Agreement. Specifically, the Applicant will restore and enhance RCW habitat by the following actions: (1) Grow and maintain trees of sufficient size and quantity for suitable nesting /roosting habitat for three recruitment clusters; (2) Install artificial nesting cavity inserts; and (3) Control hardwood mid and under story vegetation and provide diverse herbaceous groundcover by thinning timber and prescribing frequent fire.

No RCWs currently occupy the JSMF; therefore, MSU has a zero baseline. As a result of the specific conservation actions, however, it is expected that the RCW population on the JSMF will increase from this baseline. Under the Agreement, MSU may be allowed the opportunity to incidentally take RCWs at some point in the future if above-baseline RCWs are attracted to the enrolled property by the proactive management measures undertaken by MSU. The authorization for incidental take in the Agreement and ESP will have certain conditions. Further details on the topics described above are found in the aforementioned documents available for review under this notice.

The geographic scope of the Applicant's Agreement is approximately 8,136 acres of land (e.g., the JSMF), which is located in Oktibbeha and Winston Counties, Mississippi.

We have made a preliminary determination that execution of the Agreement and associated issuance of the ESP will not result in significant environmental, economic, social, historical or cultural impacts and is, therefore, categorically excluded from review under the National Environmental Policy Act (NEPA) of 1969, as amended, pursuant to 516 Department Manual 2, Appendix 1 and 516 Department Manual 6 Appendix 1. In addition, we have evaluated the proposed Agreement and ESP application under section 106 of the National Historic Preservation Act and have concluded that approval will not affect cultural resources on, or eligible for, the National Historic Register of Historic Places. We base our conclusions on our review of the process for protection and consideration of cultural resources included in the associated Agreement as well as on the scope of the voluntary management actions identified in the Agreement. We have consulted with the Mississippi State Historic Preservation Officer and have received concurrence with our conclusion.

We provide this notice under section 10(c) of the Act (16 U.S.C. 1531, et seq.) and under our implementing regulations for NEPA (40 CFR 1506.6). We will evaluate the proposed Agreement, associated documents, and comments submitted thereon to determine whether the requirements of section 10(a) of the Act and NEPA have been met. If we determine that the requirements are met, we will issue an ESP under section 10(a)(1)(A) of the Act to the Applicant in accordance with the terms of the Agreement and specific terms and conditions of the authorizing ESP. We will not make our final decision until after the end of the 30-day comment period and will fully consider all comments received during the comment period.

Dated: August 30, 2006.
Ed Buskirk,
Acting Regional Director, Southeast Region.

[FR Doc. E6-14868 Filed 9-7-06; 8:45 am]

BILLING CODE 4310-55-P